ENVIRONMENTAL PROTECTION AGENCY

[EPA-HQ-OW-2009-0819; FRL-9124-7]

Agency Information Collection Activities; Submission to OMB for Review and Approval; Comment Request; Questionnaire for Steam Electric Power Generating Effluent Guidelines (New); EPA ICR No. 2368.01, OMB Control No. 2040-NEW

AGENCY: Environmental Protection Agency (EPA).

ACTION: Notice.

SUMMARY: In compliance with the Paperwork Reduction Act (PRA) (44 U.S.C. 3501 et seq.), this document announces that an Information Collection Request (ICR) has been forwarded to the Office of Management and Budget (OMB) for review and approval. This is a request for a new collection. The ICR, which is abstracted below, describes the nature of the information collection and its estimated burden and cost.

DATES: Additional comments may be submitted on or before April 8, 2010.

ADDRESSES: Submit your comments, referencing Docket ID No. EPA-HQ-OW-2009-0819, to (1) EPA online using http://www.regulations.gov (our preferred method), by e-mail to ow-docket@epa.gov, or by mail to: EPA Docket Center, Environmental Protection Agency, Water Docket, Mailcode 28221T, 1200 Pennsylvania Ave., NW., Washington, DC 20460, and (2) OMB by mail to: Office of Information and Regulatory Affairs, Office of Management and Budget (OMB), Attention: Desk Officer for EPA, 725 17th Street, NW., Washington, DC 20503.

FOR FURTHER INFORMATION CONTACT: Ms. Jezebele Alicea-Virella, Engineering and Analysis Division (4303T), Environmental Protection Agency, 1200 Pennsylvania Ave., NW, Washington, DC 20460; telephone number: 202-566-1755; e-mail address: Alicea.Jezebele@epa.gov.

SUPPLEMENTARY INFORMATION: EPA has submitted the following ICR to OMB for review and approval according to the procedures prescribed in 5 CFR 1320.12. On October 29, 2009 (74 FR 55837-55839), EPA sought comments on this ICR pursuant to 5 CFR 1320.8(d). EPA received comments from electric power companies, industry trade associations, and an environmental group. The topics raised in these comments address both general matters related to the ICR, such as format and timing, and suggested revisions to specific questions that request technical information in various sections of the questionnaire. The comments are summarized in the supporting statement for this ICR. Any additional comments on this proposed ICR should be submitted to EPA and OMB within 30 days of this notice.

EPA has established a public docket for this ICR under Docket ID No. EPA-HQ-OW-2009-0819, which is available for online viewing at http://www.regulations.gov, or in person viewing at the Water Docket in the EPA Docket Center (EPA/DC), EPA West, Room 3334, 1301 Constitution Ave., NW., Washington, DC. The EPA/DC Public Reading Room is open from 8:30 a.m. to 4:30 p.m., Monday through Friday, excluding legal holidays. The telephone number for the Reading Room is 202-566-1744, and the telephone number for the Water Docket is (202) 566-2426.

Use EPA's electronic docket and comment system at http://www.regulations.gov, to submit or view public comments, access the index listing of the contents of the docket, and to access those documents in the docket that are available electronically. Once in the system, select “docket search,” then key in the docket ID number identified above. Please note that EPA's policy is that public comments, whether submitted electronically or in paper, will be made available for public viewing at http://www.regulations.gov as EPA receives them and without change, unless the comment contains copyrighted material, confidential business information (CBI), or other information whose public disclosure is restricted by statute. For further information about the electronic docket, go to http://www.regulations.gov.

Title: Questionnaire for Steam Electric Power Generating Effluent Guidelines (New).

ICR numbers: EPA ICR No. 2368.01, OMB Control No. 2040-NEW.

ICR Status: This ICR is for a new information collection activity. An Agency may not conduct or sponsor, and a person is not required to respond to, a collection of information, unless it displays a currently valid OMB control number. The OMB control numbers for EPA's regulations in title 40 of the CFR, after appearing in the Federal Register when approved, are listed in 40 CFR part 9, are displayed either by publication in the Federal Register or by other appropriate means, such as on the related collection instrument or form, if applicable. The display of OMB control numbers in certain EPA regulations is consolidated in 40 CFR part 9.

Abstract: The Clean Water Act (CWA) directs EPA to develop regulations, called effluent guidelines, to limit the amount of pollutants that are discharged to surface waters or to sewage treatment plants. The effluent guidelines for the steam electric power generating point source category apply to steam electric generating units at establishments that are primarily engaged in the generation of electricity for distribution and sale, resulting primarily from a process using nuclear or fossil-type fuels, such as coal, oil and natural gas.

EPA first identified the industry during its 2005 annual review of discharges from categories with existing effluent guidelines regulations, when publicly available data indicated that this industry ranked high in discharges of toxic and nonconventional pollutants. Because of these findings, EPA initiated a more detailed study of the industry and collected data through site visits, wastewater sampling, a limited data request, and secondary sources of data. EPA determined that steam electric power plants are responsible for a significant amount of the toxic pollutant loadings discharged to surface waters by point sources. Further information regarding these conclusions can be found in EPA's study, Steam Electric Power Generating Point Source Category: Final Detailed Study Report (EPA 821-R-09-008). This ICR will support the review and revision of the Steam Electric ELGs.

EPA is requesting the Office of Management and Budget (OMB) to review and approve the ICR for Steam Electric Power Generating Effluent Guidelines. The ICR will aid in the collection of information from a wide range of steam electric power generating industry operations to characterize waste streams, understand the processes that generate the wastes, gather environmental data, and assess the availability and affordability of treatment technologies. These data will be used to perform detailed technical and economic analyses that will support EPA's rulemaking.

EPA has identified approximately 1,200 fossil- and nuclear-fueled steam electric power plants that are potentially within scope of the data collection objectives of the questionnaire. To reduce burden on the industry, EPA intends to distribute the questionnaire to a statistically-sampled subset of these facilities. After addressing comments provided during the first FRN publication comment period, which ended on December 28, 2009, EPA estimates that approximately 734 fossil- or nuclear-fueled steam electric plants will be required to complete Parts A and I of the questionnaire. This is a decrease in the number of respondents, from 760 to 734. The questionnaire consists of multiple sections which have been tailored to address specific processes, specific data needs, or types of power plants. Parts A and I of the questionnaire will be sent to all questionnaire recipients (734 plants); the remaining sections will be sent to discrete subpopulations of questionnaire recipients. Overall, EPA estimates a reduction of 11,640 hours in respondent burden as a result of the revisions of the questionnaire.

The questionnaire will collect general plant information and selected technical information about the plant processes and the electric generating units. The information that will be collected includes economic data and technical information about flue gas desulfurization (FGD) wastewater, ash handling, process equipment cleaning operations, wastewater treatment, surface impoundment and landfill operations, and nuclear operations. The questionnaire will also require certain power plants to collect and analyze samples of leachate from surface impoundments and landfills containing coal combustion residues. More details about information requested in each section of the questionnaire are provided in the ICR supporting statement.

Burden Statement: The annual public reporting and recordkeeping burden for this collection of information is estimated to average 197 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

The ICR provides a detailed explanation of the Agency's estimate, which is only briefly summarized here:

Respondents/Affected Entities: Steam electric power plants.

Estimated Number of Respondents: 734.

Frequency of Response: Once.

Estimated Total Annual Hour Burden: 48,150 hours.

Estimated Total Annual Cost: $3,076,316. This includes an estimated annual burden cost of $2,670,633 for labor and $405,683 million for operations and maintenance.

Changes in the Estimates: This is a new collection and thus represents a one-time increase to the Agency's overall burden.

Dated: March 4, 2010.
John Moses,
Director, Collection Strategies Division.

[FR Doc. 2010-4962 Filed 3-8-10; 8:45 am]

BILLING CODE 6560-50-P